OFFICE OF PERSONNEL MANAGEMENT

5 CFR Part 534

RIN 3206-AJ47

Basic Pay for Employees of Temporary Organizations

AGENCY: Office of Personnel Management.

ACTION: Final rule.

SUMMARY: The Office of Personnel Management is issuing final regulations on setting pay for employees of temporary organizations established by law or Executive order. These regulations will enable agencies to determine the rate of basic pay and locality payments for employees of temporary organizations.

EFFECTIVE DATE: The regulations are effective on November 12, 2002.

FOR FURTHER INFORMATION CONTACT: David Sweeney, (202) 606-2858, FAX: (202) 606-0824, or email: payleave@opm.gov.

SUPPLEMENTARY INFORMATION: On January 25, 2002, the Office of Personnel Management (OPM) issued interim regulations on compensation for employees of temporary organizations established by law or Executive order. (See 67 FR 3581.) Section 1101 of the Floyd D. Spence National Defense Authorization Act for fiscal year 2001 (Public Law 106-398, October 30, 2000), added a new subchapter IV to chapter 31 of title 5, United States Code. Subchapter IV provides OPM with authority to establish regulations to determine the rate of basic pay for employees of temporary organizations without regard to the provisions of chapter 51 and subchapter III of chapter 53 of title 5, United States Code. (See 5 U.S.C. 3161 (d).) The 60-day comment period for the interim regulations ended on March 26, 2002. We received no comments from either agencies or individuals. However, we are revising §§ 534.301 and 534.302 concerning the purpose and coverage of these regulations to improve readability and reduce redundancy. We are also revising § 534.304(b) to clarify that the cap on locality-adjusted rates of basic pay for employees in staff and other non-executive level positions is the rate for level IV of the Executive Schedule. This is consistent with the cap on locality rates for General Schedule employees. Other than these changes, we are adopting as final the interim rules for agencies to administer the basic pay rates for employees of temporary organizations under 5 U.S.C. part 534, subpart C. The final regulations do not apply to temporary organizations established prior to October 30, 2000.

Consistent with 5 U.S.C. 3161(d), § 534.303 of these final regulations provides that the rate of basic pay for executive level positions of a temporary organization may not exceed the maximum rate of basic pay established for the Senior Executive Service (SES) under 5 U.S.C. 5382. Employees in executive level positions must be paid locality payments under 5 U.S.C. 5304 in addition to basic pay, not to exceed the rate for level III of the Executive Schedule. Section 534.304 provides that the rate of basic pay for staff or other non-executive level positions in a temporary organization may not exceed the maximum rate of basic pay for GS-15 under 5 U.S.C. 5332. However, § 534.304(c) provides that the rate of basic pay for a senior staff position of a temporary organization may, in a case determined by the head of the temporary organization to be exceptional, exceed the maximum rate of basic pay for GS-15, but may not exceed the maximum rate of basic pay for the SES. As previously stated, staff and other non-executive positions also must be paid locality payments under 5 U.S.C. 5304, not to exceed the rate for level IV of the Executive Schedule.

In setting rates of basic pay for staff and other non-executive level positions, consideration should be given to the significance, scope, and technical complexity of the position and the qualifications required for the work involved. (See § 534.304 (a)(2).) This is consistent with a parallel requirement established under regulations issued by General Services Administration for setting basic pay for advisory committee members and staff under the Federal Advisory Committee Act. (See 41 CFR 102-3.130.)

Executive Order 12866, Regulatory Review

This rule has been reviewed by the Office of Management and Budget in accordance with E.O. 12866.

Regulatory Flexibility Act

I certify that these regulations will not have a significant economic impact on a substantial number of small entities because they will apply only to Federal agencies and employees.

List of Subjects in 5 CFR Part 534

Government employees, Hospitals, Students, Wages.

Office of Personnel Management.
Kay Coles James,
Director.

Accordingly, the Office of Personnel Management is adopting the interim rule amending part 534 of title 5 of the Code of Federal Regulations which was published at 67 FR 3581 on January 25, 2002, as final with the following changes:

PART 534—PAY UNDER OTHER SYSTEMS

1.The authority citation for part 534 continues to read as follows:

Authority: 5 U.S.C. 1104, 3161(d), 5307, 5351, 5352, 5353, 5376, 5383, 5384, 5385, 5541, and 5550a.

2. Sections 534.301 and 534.302 are revised to read as follows:

Subpart C—Basic Pay for Employees of Temporary Organizations

§ 534.301 Purpose.

This subpart provides rules for determining the rate of basic pay and locality-adjusted rate of basic pay for employees who are appointed to positions in temporary organizations and compensated under 5 U.S.C. 3161. Such temporary organizations are established by law or Executive order. This subpart does not provide authority to establish other forms of compensation and benefits not authorized by title 5, United States Code, or another specific statutory authority.

§ 534.302 Coverage.

This subpart applies to employees in executive level and staff positions in temporary organizations. Such employees are not subject to the provisions applicable to General Schedule employees covered by chapter 51 and subchapter III of chapter 53 of title 5, United States Code.

3. Paragraph (b) of § 534.304 is revised to read as follows:

§ 534.304 Basic pay for staff positions.

* * * * *

(b) Employees in staff and other non-executive level positions of temporary organizations must be paid locality payments in addition to basic pay in the same manner as employees covered by 5 U.S.C. 5304. Locality-adjusted rates of basic pay may not exceed the locality-adjusted rate of basic pay for grade GS-15 of the General Schedule under 5 U.S.C. 5304, for the locality pay area involved (not to exceed the rate for level IV of the Executive Schedule).

* * * * *

[FR Doc. 02-25848 Filed 10-9-02; 8:45 am]

BILLING CODE 6325-39-P